DEPARTMENT OF COMMERCE

National Institute of Standards and Technology

Notice of Public Meeting—Cloud Computing and Big Data Forum and Workshop

AGENCY: National Institute of Standards and Technology, Department of Commerce.

ACTION: Notice of public forum and workshop.

SUMMARY: The National Institute of Standards and Technology (NIST) announces a Cloud Computing and Big Data Forum and Workshop to be held on Tuesday, January 15, Wednesday, January 16, and Thursday, January 17, 2013. The format is a two-day forum followed by a one-day hands-on workshop. The NIST Cloud Computing and Big Data Forum and Workshop will bring together leaders and innovators from industry, academia and government in an interactive format that combines keynote presentations, panel discussions, interactive breakout sessions, and open discussion. The forum and workshop are open to the general public. NIST invites organizations to display posters and participate as exhibitors as described in the SUPPLEMENTARY INFORMATION section below.

DATES: The NIST Cloud Computing and Big Data Forum and Workshop will be held 9:00 a.m.-4:30 p.m. Eastern Time (ET) on Tuesday, January 15, 9:00 a.m.-5:30 p.m. ET on Wednesday, January 16, and 9:00 a.m.-12:40 p.m. ET on Thursday, January 17, 2013.

ADDRESSES: To register, go to: http://www.nist.gov/itl/cloud/cloudbdworkshop.cfm. The event will be held at the National Institute of Standards and Technology, 100 Bureau Drive, Gaithersburg, MD 20899 in the Red Auditorium of the Administration Building (Building 101). Please note admittance instructions in the SUPPLEMENTARY INFORMATION section below.

FOR FURTHER INFORMATION CONTACT: Romayne Hines by email at romayne.hines@nist.gov or by phone at (301) 975-4090. Additional information may be found at: http://www.nist.gov/itl/cloud/cloudbdworkshop.cfm.

SUPPLEMENTARY INFORMATION: NIST hosted five prior Cloud Computing Forum & Workshop events in May 2010, November 2010, April 2011, November 2011 and June 2012. The purpose of this series of workshops was to respond to the request of the U.S. Chief Information Officer that NIST lead federal efforts on standards for data portability, cloud interoperability, and security ¹. The workshops' goals were to engage with industry to accelerate the development of cloud standards for interoperability, portability, and security, discuss the Federal Government's experience with cloud computing, report on the status of the NIST Cloud Computing efforts, launch and report progress on the NIST-led initiative to collaboratively develop a U.S. Government (USG) Cloud Computing Technology Roadmap among multiple federal and industrial stakeholders, and to advance the dialogue among all of these groups. The series has been expanded to focus on the emerging trend of Big Data in the context of its convergence with and complementary relationship to Cloud Computing.

¹ Office of Management and Budget, U.S. Chief Information Officer, Federal Cloud Computing Strategy, Feb. 8, 2011. Online: https://cio.gov/wp-content/uploads/downloads/2012/09/Federal-Cloud-Computing-Strategy.pdf.

On the first day, the workshop presenters will provide information on the USG Cloud Computing Technology Roadmap initiative as well as a status update on NIST efforts to help develop open standards in interoperability, portability and security in cloud computing. On the second and third days, the workshop will focus on the intersection of Cloud Computing and Big Data. Fully realizing the power of Big Data depends on meeting the unprecedented demands on storage, integration, and analysis presented by massive data sets—demands that Cloud Computing innovators are working to meet today. The workshop will explore possibilities for harmonizing Cloud Computing and Big Data measurement, benchmarking, and standards in ways that bring the power of these two approaches to bear in driving progress and prosperity.

NIST invites members of the public, especially Cloud Computing and Big Data community stakeholders, to participate in this event with a poster display or as an exhibitor. On Tuesday, January 15 and Wednesday, January 16, 2013, space will be available for 30 academic, industry, and standards developing organizations to exhibit their respective Cloud Computing or Big Data work at a demonstration booth or table. Space will also be available for 16 academic, industry, and standards developing organizations to display posters related to Cloud Computing or Big Data at the event. Interested organizations should contact Romayne Hines at romayne.hines@nist.gov or (301) 975-4090. Requests to exhibit and to display posters will be granted on a first-come, first-serve basis. The first 30 organizations requesting to exhibit will be accepted for the exhibits. The first 16 organizations requesting to display posters will be accepted for the poster display. Responses must be submitted by an authorized representative of the organization. Logistics information will be provided to accepted exhibitors. NIST will provide the poster and exhibit location space and one work table free of charge. Exhibitors are responsible for the cost of the poster or exhibit, including staffing and materials. NIST reserves the right to exercise its judgment in the placement of posters and exhibits. General building security is supplied; however, exhibitors are responsible for transporting and securing exhibit equipment and materials.

The workshop is open to the general public; however, those wishing to attend must register at http://www.nist.gov/itl/cloud/cloudbdworkshop.cfm by 5:00 p.m. ET on Thursday, January 10, 2013. All visitors to the NIST site are required to pre-register to be admitted and have appropriate government-issued photo ID to gain entry to NIST.

Dated: December 13, 2012.
Willie E. May,
Associate Director for Laboratory Programs.

[FR Doc. 2012-30467 Filed 12-17-12; 8:45 am]

BILLING CODE 3510-13-P